NATIONAL SCIENCE FOUNDATION

Record of Decision; Green Bank Observatory

AGENCY: National Science Foundation.

ACTION: Notice of Record of Decision.

SUMMARY: On July 26, 2019, the National Science Foundation (NSF) signed a Record of Decision (ROD) for the Green Bank Observatory in Green Bank, West Virginia. This important step concludes the agency's decision-making process with respect to the general path forward for facility operations in a budget-constrained environment.

FOR FURTHER INFORMATION CONTACT: Elizabeth A. Pentecost, Project Administrator, National Science Foundation, Division of Astronomical Sciences, 2415 Eisenhower Avenue, Room W 9152, Alexandria, VA 22314. Telephone: 703-292-4907, Email: epenteco@nsf.gov.

SUPPLEMENTARY INFORMATION: NSF issued its ROD following an extensive environmental impact analysis and broad input from the public and the scientific community, including the National Academies 6th Decadal Survey released in 2010, and the NSF Division of Astronomical Sciences Portfolio Review Committee Report released in 2012.

The ROD formalizes NSF's selection of Alternative A: Collaboration with interested parties for continued science- and education-focused operations with reduced NSF funding (Agency-Preferred Alternative). The selection of this Alternative will allow important research at GBO to continue while simultaneously addressing NSF's need to reduce its share of the operations cost within the context of scientific priorities and a constrained budgetary environment.

Prior to issuance of the ROD, a Final Environmental Impact Statement (FEIS) was prepared in compliance with the National Environmental Policy Act, 42 U.S.C. 4321, et seq. (NEPA), dated February 22, 2109, and availability of it was noticed in the Federal Register on February 22, 2019. As detailed in the FEIS, five Action Alternatives and a No-Action Alternative, were considered for the proposed change in operations of Arecibo Observatory. These Alternatives include:

• Alternative A: Collaboration with Interested Parties for Continued Science-and Education-focused Operations with Reduced NSF Funding (Agency-preferred Alternative)

• Alternative B: Collaboration with Interested Parties for Operations as a Technology Park

• Alternative C: Mothballing of Facilities

• Alternative D: Demolition and Site Restoration

• No-Action Alternative: Continued NSF Investment for Science-focused Operations

The Agency-Preferred Alternative, which is also the environmentally preferable Action Alternative, was selected and documented in the ROD. The ROD also reflects NSF's consideration of the outcomes of its comprehensive compliance with Section 106 of the National Historic Preservation Act (54 U.S.C. 306108 (formerly 16 U.S.C. 470f) and its implementing regulations found at 36 CFR part 800) and the Endangered Species Act (16 U.S.C. 1531-1544 and its implementing regulations at 50 CFR part 402).

The ROD is now available on the internet at: http://www.nsf.gov/mps/ast/env_impact_reviews/greenbank/greenbank_rod.jsp. in Adobe® portable document format (PDF). Limited hard copies of the ROD are also available, on a first request basis, by contacting the NSF contact, Elizabeth A. Pentecost, Project Administrator, National Science Foundation, Division of Astronomical Sciences, 2415 Eisenhower Avenue, Room W9152, Alexandria, VA 22314, Telephone: 703-292-4907, Email: epenteco@nsf.gov.

Dated: July 29, 2019.
Suzanne H. Plimpton,
Reports Clearance Officer, National Science Foundation.

[FR Doc. 2019-16479 Filed 8-1-19; 8:45 am]

BILLING CODE 7555-01-P